DEPARTMENT OF THE INTERIOR

Bureau of Land Management

[LLNVW00000.L5110000.GN0000.LVEMF1504350.15X MO#4500088392]

Notice of Availability of the Final Environmental Impact Statement for the Proposed Marigold Mining Company—Marigold Mine—Mackay Optimization Project, Humboldt County, Nevada

AGENCY: Bureau of Land Management, Interior.

ACTION: Notice of availability.

SUMMARY: In accordance with the National Environmental Policy Act of 1969, as amended (NEPA), and the Federal Land Policy and Management Act of 1976, as amended, the Bureau of Land Management (BLM) Humboldt River Field Office, Winnemucca, Nevada has prepared a Final Environmental Impact Statement (EIS) for the Marigold Mine—Mackay Optimization Project (Project) and by this notice is announcing its availability.

DATES: The BLM will not issue a final decision on the proposal for a minimum of 30 days after the date that the Environmental Protection Agency publishes its Notice of Availability in the Federal Register.

ADDRESSES: Copies of the Marigold Mine—Mackay Optimization Project Plan of Operations and Final EIS are available for public inspection at the Winnemucca District BLM Office, 5100 East Winnemucca Boulevard, Winnnemucca, NV. Interested persons may also review the Final EIS on the internet at http://go.usa.gov/xmwds.

FOR FURTHER INFORMATION CONTACT: Jeanette Black, Project Lead, telephone 775-623-1500; address BLM Winnemucca District, Humboldt River Field Office, 5100 E Winnemucca Boulevard., Winnemucca, NV 89445; email jblack@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Marigold Mining Company (MMC), a wholly-owned subsidiary of SSR Mining Inc., has requested to optimize and modify its approved Plan of Operations by expanding its gold mining operations at the existing Marigold Mine, which is located in the southeastern portion of Humboldt County, Nevada approximately 35 miles southeast of Winnemucca. The mine is currently authorized to disturb up to 5,682.6 acres (3,211.4 acres of private land and 2,471.2 acres of public land), which was permitted under a series of Environmental Impacts Statements and Environmental Assessments from July 1988 through October 2013.

The EIS analyzed the potential environmental impacts associated with the proposed changes to MMC's current operations presented under this Plan of Operations (Plan) modification. The EIS analyzed the Proposed Action and two alternatives: Alternative I:—Partial Discharge to Cottonwood Creek and Pipeline to RIBs Alternative; and the No Action Alternative. The Proposed Action, if selected by the BLM, would include 2,055.9 acres of new disturbance (800.9 acres of public land and 1,255 acres of private land), increasing the surface disturbance by a total of 7,738.5 acres (3,271.7 acres of public land and 4,466.4 acres on private land).

All proposed disturbance would occur within the existing approved Plan boundary and includes combining multiple existing pits into three large pits. Waste rock storage areas, heap leach pads, and other supporting facilities would be expanded to support the pit expansion. The pits are proposed to extend below the historic water table, necessitating dewatering of the groundwater and rapid infiltration basins (RIBs) for recharging the excess water downgradient of the pits. If approved, the proposed modification would extend the mine life by up to 10 years.

Under Alternative I, all components of the Proposed Action would be the same except for the proposed dewatering operation which would increase the total disturbance by approximately 4 acres. A portion of the dewatered groundwater (approximately 191 gpm) would be treated at a water treatment plant, transported via an above ground pipeline system to be discharged to the ephemeral Cottonwood Creek drainage, creating a water source for livestock and wildlife while recharging the aquifer. The remaining portion of dewatering water would be piped to the RIBs.

Under the No Action Alternative, the plan modification would not be authorized and the activities described under the Proposed Action would not occur. MMC would continue mining activities as authorized in their current Plan, dated November 6, 2013, with closure in 2027, followed by approximately three years of reclamation.

Amendments to two associated rights-of-ways (ROWs) needed to accommodate the proposed mine changes are also evaluated in the EIS. These ROWs include relocation of a portion of the county road called Buffalo Valley Road and of a portion of the existing 120-kV power line (ROW held by NV Energy).

A Notice of Availability (NOA) of the Draft EIS for the proposed Mackay Project was published in the Federal Register on May 20, 2019 (FR Doc No: 2019-10473). Two open house public meetings were held during the comment period. The BLM received 13 letters with 186 public scoping comments during the 45-day comment period. Five of the letters contained substantive comments which included concerns on potential impacts to existing fissures on Interstate 80, stability of the pit and waste rock storage facility adjacent to the county road, the California Trail, groundwater quality, pit lake quality, springs and associated wetlands, and eagles. These comments were considered and addressed in Appendix I (Draft Environmental Impact Statement Public Comments and Responses) of the Final EIS.

Comments on the Draft EIS received from the public and internal BLM review were considered and incorporated as appropriate into the Final EIS. Public comments resulted in the addition of clarifying text, but did not significantly change the proposed action.

Authority: 40 CFR 1506.6, 40 CFR 1506.10.

David Kampwerth,
Field Manager, Humboldt River Field Office.

[FR Doc. 2019-19896 Filed 9-12-19; 8:45 am]

BILLING CODE 4310-HC-P